COMMITTEE FOR THE IMPLEMENTATION OF TEXTILE AGREEMENTS

Adjustment of Import Limits for Certain Cotton, Wool and Man-Made Fiber Textiles and Textile Products Produced or Manufactured in Taiwan; Correction

November 18, 2004.

In the letter to the Commissioner, Bureau of Customs and Border Protection published in the Federal Register on November 12, 2004 (69 FR 65414), on page 65415, 2nd column, in the table listing import restraint limits, please insert Categories 338/339 with the limit of 1,054,585 dozen under “Sublevels in Group II”, as it was inadvertently left out.

James C. Leonard III,
Chairman, Committee for the Implementation of Textile Agreements.

[FR Doc. E4-3333 Filed 11-23-04 8:45 am]

BILLING CODE 3510-DR-S